DEPARTMENT OF COMMERCE

International Trade Administration

[A-552-801]

Certain Frozen Fish Fillets from the Socialist Republic of Vietnam: Rescission of Antidumping Duty Changed Circumstances Review

AGENCY: Import Administration, International Trade Administration, Department of Commerce.

SUMMARY: On August 21, 2007, in response to a request from an interested party, the Department of Commerce (“Department”) initiated a changed circumstances review of the antidumping duty order on certain frozen fish fillets from Socialist Republic of Vietnam (“Vietnam”). See Certain Frozen Fish Fillets from Vietnam: Notice of Initiation and Preliminary Results of Changed Circumstances Review, 72 FR 46604 (August 21, 2007) (“Initiation and Preliminary Results”). We are rescinding the changed circumstances review because we have initiated an administrative review covering the firms in question and intend to address any considerations arising from the changed circumstances review within the context of the 2007/2008 administrative review of this order.

EFFECTIVE DATE: February 19, 2009.

FOR FURTHER INFORMATION CONTACT: Javier Barrientos, AD/CVD Operations, Office 9, Import Administration, International Trade Administration, U.S. Department of Commerce, 14th Street and Constitution Avenue, NW, Washington, DC 20230; telephone (202) 482-2243.

SUPPLEMENTARY INFORMATION:

Background

On August 21, 2007, the Department issued its initiation and preliminary results. See Initiation and Preliminary Results. As part of the Initiation and Preliminary Results, the Department invited interested parties to submit case and rebuttal briefs, and provided parties the opportunity to request a hearing. Id. at 46606. On September 20, 2007, the Catfish Farmers of America and individual U.S. catfish processors (collectively “Petitioners”) submitted their case brief. No other party submitted briefs. On September 25, 2007, Vinh Hoan Co., Ltd./Corporation (“Vinh Hoan”) submitted a rebuttal brief. Based on parties' comments in their case and rebuttal briefs, the Department issued Vinh Hoan a questionnaire on February 13, 2008, and received its response on February 29, 2008. Because the Department issued its questionnaire subsequent to the briefing schedule, we invited parties to comment on Vinh Hoan's February 29, 2008, response. See Memo to the File, dated May 16, 2008. On May 23, 2008, the Department received a supplemental brief from Petitioners. On May 28, 2008, the Department received a rebuttal brief from Vinh Hoan. Based on continuing questions regarding affiliation issues, the Department issued Vinh Hoan and its affiliate a supplemental questionnaire on September 11, 2008, and received their response on September 29, 2008.

On September 30, 2008, we initiated the 2007/2008 administrative review on certain frozen fish fillets from Vietnam. See Initiation of Antidumping and Countervailing Duty Administrative Reviews and Requests for Revocation in Part, 73 FR 56795 (September 30, 2008). On October 29, 2008, the Department issued its respondent selection memorandum, wherein Vinh Hoan was selected as a mandatory respondent in the 2007/2008 administrative review. On November 3, 2008, the Department issued Vinh Hoan its initial administrative review questionnaire, including questions regarding its affiliations. On November 24, 2008, December 10, 2008, and December 23, 2008, the Department received Vinh Hoan's and its affiliate's Section A, Section C, and Section D questionnaire responses.

Scope of the Order

The product covered by the order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps. The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).¹ The order covers all frozen fish fillets meeting the above specification, regardless of tariff classification. Although the HTSUS subheadings are provided for convenience and customs purposes, our written description of the scope of the order is dispositive.

¹ Until July 1, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Rescission of Changed Circumstances Review

Because Vinh Hoan has been selected as a respondent for individual examination in the ongoing administrative review, we will be examining the impact of the affiliation in that proceeding. This examination will include addressing issues with respect to the production and/or sales Vinh Hoan and its affiliate, or their subsidiaries, made to the United States during the period of review and the effect that any affiliation may have had on the operations and management of the relevant firms for purposes of determining, among other things, whether Vinh Hoan and its affiliate should be treated as a single entity. Thus, we intend to address all issues arising out of the changed circumstances review on certain frozen fish fillets from Vietnam in the context of the 2007/2008 administrative review. Accordingly, we are rescinding the changed circumstances review with respect to the antidumping duty order on certain frozen fish fillets from Vietnam.

We will incorporate the record of the rescinded changed circumstances review into the record of the 2007/2008 administrative review.

Dated: February 10, 2009.
Gary Taverman,
Acting Deputy Assistant Secretary for Antidumping and Countervailing Duty Operations.

[FR Doc. E9-3544 Filed 2-18-09; 8:45 am]

BILLING CODE 3510-DS-S